DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (“we”) solicits review and comment from local, State, and Federal agencies, and the public on the following permit requests.

DATES: Comments on these permit applications must be received on or before May 18, 2005.

ADDRESSES: Written data or comments should be submitted to the U.S. Fish and Wildlife Service, Chief, Endangered Species, Ecological Services, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 30 days of the date of publication of this notice to the address above (telephone: 503-231-2063). Please refer to the respective permit number for each application when requesting copies of documents.

SUPPLEMENTARY INFORMATION:

Permit No.: TE-839960

Applicant: John Dicus, Black Canyon City, Arizona.

The permittee requests an amendment to take (harass by survey) the cactus ferruginous pygmy-owl (Glaucidium brasilianum cactorum) in conjunction with surveys throughout the range of the species in Arizona for the purpose of enhancing its survival.

Permit No.: TE-049175

Applicant: Melanie Dicus, Black Canyon City, Arizona.

The permittee requests an amendment to take (harass by survey) the cactus ferruginous pygmy-owl (Glaucidium brasilianum cactorum) in conjunction with surveys throughout the range of the species in Arizona for the purpose of enhancing its survival.

Permit No.: TE-099477

Applicant: Kimberly Boydstun-Peterson, Rancho Santa Margarita, California.

The applicant requests a permit to take (survey by pursuit) the Quino checkerspot butterfly (Euphydryas editha quino) in conjunction with surveys throughout the range of the species in California for the purpose of enhancing its survival.

Permit No.: TE-099463

Applicant: Mike McEntee, Rancho Santa Margarita, California.

The applicant requests a permit to take (harass by survey and monitor nests) the southwestern willow flycatcher (Empidonax traillii extimus), and take (locate and monitor nests) the least Bell's vireo (Vireo bellii pusillus) in conjunction with surveys throughout the range of each species in California for the purpose of enhancing their survival.

Permit No.: TE-100007

Applicant: Krista R. Garcia, Fresno, California.

The permittee requests an amendment to take (capture and release) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in California for the purpose of enhancing their survival.

Permit No.: TE-101154

Applicant: Douglas Rischbieter, Arnold, California.

The applicant requests a permit to take (capture, handle, and release) the tidewater goby (Eucyclogobius newberryi), the mountain yellow-legged frog (Rana muscosa), the arroyo toad (Bufo californicus), and the Santa Cruz long-toed salamander (Ambystoma macrodactylum croceum) in conjunction with surveys in throughout the range of each species in California for the purpose of enhancing their survival.

Permit No.: TE-101156

Applicant: Thomas Keegan, Roseville, California.

The applicant requests a permit to take (capture, handle, and release) the tidewater goby (Eucyclogobius newberryi) in conjunction with surveys in throughout its range in California for the purpose of enhancing its survival.

Permit No.: TE-827500

Applicant: Sean Barry, Dixon, California.

The permittee requests an amendment to take (harass by survey and capture) the San Francisco garter snake (Thamnophis sirtalis tetrataenia) in conjunction with genetic research throughout the range of the species in California for the purpose of enhancing its survival.

Permit No.: TE-049693

Applicant: Jody Gallaway, Chico, California.

The applicant requests a permit to take (capture and collect and sacrifice) the Conservancy fairy shrimp (Branchinecta conservatio), the longhorn fairy shrimp (Branchinecta longiantenna), and the vernal pool tadpole shrimp (Lepidurus packardi) in conjunction with surveys throughout the range of each species in northern California for the purpose of enhancing their survival.

Permit No.: TE-101148.

Applicant: David Compton, Santa Barbara, California.

The applicant requests a permit to take (harass by survey) the southwestern willow flycatcher (Empidonax traillii extimus) in conjunction with surveys in Santa Barbara, Ventura, and Los Angeles Counties, California, for the purpose of enhancing its survival.

We solicit public review and comment on each of these recovery permit applications.

Dated: March 16, 2005.
Ken McDermond,
Acting Manager, California/Nevada Operations Office, U.S. Fish and Wildlife Service.

[FR Doc. 05-7670 Filed 4-15-05; 8:45 am]

BILLING CODE 4310-55-P